DEPARTMENT OF AGRICULTURE

Agricultural Marketing Service

7 CFR Part 1219

[Docket No. FV-01-705 RO]

Hass Avocado Promotion, Research, and Information Order; Referendum Order

AGENCY: Agricultural Marketing Service, Agriculture.

ACTION: Referendum order.

SUMMARY: This document directs that a referendum be conducted among eligible producers and importers of Hass avocados to determine whether they favor implementation of the Hass Avocado Promotion, Research, and Information Order (Order).

DATES: The registration period will be from May 13 through May 31, 2002. The referendum will be conducted from June 24 to July 12, 2002. To vote in this referendum, current producers and importers must have produced or imported Hass avocados during the period from January 1, 2000, through December 31, 2001 (two years).

ADDRESSES: Copies of the Order may be obtained from: Referendum Agent, Research and Promotion Branch (RP), Fruit and Vegetable Programs (FV), AMS, USDA, Stop 0244, Room 2535-S, 1400 Independence Avenue, SW., Washington, DC 20250-0244.

FOR FURTHER INFORMATION CONTACT: Julie A. Morin, RP, FV, AMS, USDA, Stop 0244, Room 2535-S, 1400 Independence Avenue, SW., Washington, DC 20250-0244, telephone 888-720-9917 (toll free), fax 202-205-2800, e-mail julie.morin@usda.gov.

SUPPLEMENTARY INFORMATION: Pursuant to the Hass Avocado Promotion, Research, and Information Act (Act) [7 U.S.C. 7801-7813], it is hereby directed that a referendum be conducted to ascertain whether implementation of the Order is favored by Hass avocado producers and importers. The Order is authorized under the Act.

The representative period for establishing voter eligibility for the referendum shall be the period from January 1, 2000, through December 31, 2001 (two years). Persons who are producers or importers of Hass avocados at the time of the referendum and during the representative period are eligible to vote. Producers and importers must register with the U.S. Department of Agriculture (Department) in order to receive a ballot to vote in the referendum. Registration will be conducted by mail and by fax. The referendum shall be conducted by mail ballot and by fax from June 24 through July 12, 2002. Ballots must be received by the referendum agent no later than July 12, 2002, to be counted.

Section 1206(a) of the Act requires the Department to conduct a referendum prior to the Order's effective date and that the Order shall become effective only if it is determined that the Order has been approved by a simple majority of all votes cast in a referendum.

In accordance with the Paperwork Reduction Act of 1995 [44 U.S.C. Chapter 35], the referendum ballot has been approved by the Office of Management and Budget (OMB) and assigned OMB No. 0581-0197. It is estimated that there are approximately 6,000 producers and 200 importers who will be eligible to vote in the referendum. It will take an average of 15 minutes for each producer and importer to read the registration instructions and register for the referendum. It will take an average of 15 minutes for each registered producer and importer to read the voting instructions and complete the referendum ballot.

Referendum Order

Julie A. Morin, Margaret B. Irby, and Martha B. Ransom, RP, FV, AMS, USDA, Stop 0244, Room 2535-S, 1400 Independence Avenue, SW., Washington, DC 20250-0244, are designated as the referendum agents to conduct this referendum. The referendum procedures [7 CFR 1219.100 through 1219.109], which were issued pursuant to the Act, shall be used to conduct the referendum.

The referendum agents will mail registration instructions to all known Hass avocado producers and importers in advance of the referendum. Any producer or importer who does not receive registration instructions should contact the referendum agents no later than one week before the end of the registration period. Prior to the first day of the voting period, the referendum agents will mail the ballots to be cast in the referendum and voting instructions to all registered voters. Persons who are producers or importers at the time of the referendum and during the representative period are eligible to vote. Any eligible producer or importer who does not receive a ballot should contact the referendum agents no later than one week before the end of the voting period. Ballots must be received by the referendum agents on or before July 12, 2002, to be counted.

List of Subjects in 7 CFR Part 1219

Advertising, Agricultural research, Hass avocados, Imports, Reporting and recordkeeping requirements.

Authority: 7 U.S.C. 7801-7813.

Dated: April 3, 2002.
A.J. Yates,
Administrator, Agricultural Marketing Service.

[FR Doc. 02-8547 Filed 4-8-02; 8:45 am]

BILLING CODE 3410-02-P